DEPARTMENT OF LABOR

Employment and Training Administration

[TA-W-65,707]

Paragon Store Fixtures, Big Lake, MT; Notice of Termination of Investigation

Pursuant to Section 221 of the Trade Act of 1974, as amended, an investigation was initiated on March 31, 2009 in response to a worker petition filed by a company official on behalf of workers of Paragon Store Fixtures, Big Lake, Montana.

The petitioner has requested that the petition be withdrawn. Consequently, the investigation has been terminated.

Signed at Washington, DC, this 9th day of April 2009.
Richard Church,
Certifying Officer, Division of Trade Adjustment Assistance.

[FR Doc. E9-10888 Filed 5-8-09; 8:45 am]

BILLING CODE 4510-FN-P